NATIONAL FOUNDATION FOR THE ARTS AND THE HUMANITIES

Institute of Museum and Library Services

Submission for OMB Review, Comment Request, Proposed Collection: Evaluation of the Reopening Archives, Libraries, and Museums (REALM) Project

AGENCY: Institute of Museum and Library Services, National Foundation for the Arts and the Humanities.

ACTION: Submission for OMB Review, comment request.

SUMMARY: The Institute of Museum and Library Services announces that the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. This Notice proposes the clearance of the Evaluation of the Reopening Archives, Libraries, and Museums (REALM) Project research study, comprising archive and museums focus groups and libraries/archives/museums audience surveys. A copy of the proposed information collection request can be obtained by contacting the individual listed below in the ADDRESSES section of this Notice.

DATES: Written comments must be submitted to the office listed in the FOR FURTHER INFORMATION CONTACT section below on or before April 15, 2021.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

ADDRESSES: Written comments and recommendations for proposed information collection requests should be sent within 30 days of publication of this Notice to www.reginfo.gov/public/do/PRAMain. Find this particular information collection request by selecting “Institute of Museum and Library Services” under “Currently Under Review;” then check “Only Show ICR for Public Comment” checkbox. Once you have found this information collection request, select “Comment,” and enter or upload your comment and information. Alternatively, please mail your written comments to Office of Information and Regulatory Affairs, Attn.: OMB Desk Officer for Education, Office of Management and Budget, Room 10235, Washington, DC 20503, or call (202) 395-7316.

FOR FURTHER INFORMATION CONTACT: Matthew Birnbaum, Ph.D., Supervisory Social Scientist, Office of Impact Assessment and Learning, Institute of Museum and Library Services, 955 L'Enfant Plaza North SW, Suite 4000, Washington, DC 20024-2135. Dr. Birnbaum can be reached by telephone at 202-653-4760, or by email at mbirnbaum@imls.gov. Persons who are deaf or hard of hearing (TTY users) can contact IMLS at 202-207-7858 via 711 for TTY-Based Telecommunications Relay Service.

SUPPLEMENTARY INFORMATION: The Institute of Museum and Library Services is the primary source of federal support for the nation's libraries and museums. We advance, support, and empower America's museums, libraries, and related organizations through grant making, research, and policy development. Our vision is a nation where museums and libraries work together to work together to transform the lives of individuals and communities. To learn more, visit www.imls.gov.

Current Actions: This Notice proposes the clearance of Evaluation of the Reopening Archives, Libraries, and Museums (REALM) Project research study. The 60-day Notice was published in the Federal Register on October 16, 2020 (85 FR 65878). The agency received one comment in response to this Notice.

The REALM Project is convening individuals from Institute of Museum and Library Services (IMLS), OCLC Inc. (OCLC), Battelle, and several key actors in the libraries, archives, and museums (LAM) fields to bring their expertise and on-the-ground experience together to develop science-based information about how materials can be handled to mitigate COVID-19 exposure to staff and visitors of LAM institutions as COVID-19 restrictions begin lifting across the country. This project extends the guidance available from the Centers for Disease Control and Prevention (CDC) by providing information that is specifically relevant to LAM institutions. Given that LAM institutions work with physical materials that are often circulated among the public, LAM institutions have unique concerns about how they can optimize their operations while minimizing the potential for spreading the Coronavirus. This evaluation will be focused on understanding the extent to which the professionals from LAM institutions have found that the REALM Project's research test results and toolkit resources have met their needs. Data will be collected through a survey of organizations that have used the test results and toolkit developed by the REALM project and focus groups representing members of the museum and archive community who have not been engaged with the project. The evaluation is intended to provide information to OCLC and IMLS around the usefulness of the scientific information shared to the LAM community as well as the effectiveness of its distribution. The evaluation has not been designed to be a retrospective consideration of the REALM Project, but rather to inform decision-makers at OCLC and IMLS, in near real-time, as to what is working and what is not enabling them to modify the efforts of the project's Working Groups and Steering Committee as well as to adjust methods of distribution of information to the larger LAM community.

Agency: Institute of Museum and Library Services.

Title: Evaluation of the Reopening Archives, Libraries, and Museums (REALM) Project.

OMB Control Number: 3137-NEW.

Agency Number: 3137.

Affected Public: Staff from library, archive, and museum sectors.

Total Number of Respondents: 8,036.

Frequency of Response: Once.

Average Hours per Response: 0.5.

Total Burden Hours: 4,036.

Total Annualized Capital/Startup Costs: n/a.

Total Annual Cost Burden: $121,080.

Total Annual Federal Costs: $92,056.

Dated: March 12, 2021.
Amanda M.F. Bakale,
Assistant General Counsel.

[FR Doc. 2021-05567 Filed 3-17-21; 8:45 am]

BILLING CODE 7036-01-P